DEPARTMENT OF THE TREASURY

Customs Service

19 CFR Part 10

[T.D. 01-74]

RIN 1515-AC89

Preferential Treatment of Brassieres Under the United States-Caribbean Basin Trade Partnership Act

AGENCY: U.S. Customs Service, Department of the Treasury.

ACTION: Interim regulations; corrections.

SUMMARY: This document makes corrections to the document published in the Federal Register on October 4, 2001, as T.D. 01-74 which set forth interim amendments to the Customs Regulations to implement those provisions within the United States-Caribbean Basin Trade Partnership Act (the CBTPA) that establish standards for preferential treatment for brassieres imported from CBTPA beneficiary countries.

EFFECTIVE DATE: These corrections are effective October 4, 2001.

FOR FURTHER INFORMATION CONTACT: Cynthia Reese, Office of Regulations and Rulings (202-927-1361).

SUPPLEMENTARY INFORMATION:

Background

On October 4, 2001, Customs published in the Federal Register (66 FR 50534) T.D. 01-74 to set forth interim amendments to the Customs Regulations to implement those provisions within the United States-Caribbean Basin Trade Partnership Act (the CBTPA) that establish standards for preferential treatment for brassieres imported from CBTPA beneficiary countries. The interim regulatory amendments contained in T.D. 01-74 involve specifically the methods, procedures and related standards that will apply for purposes of determining compliance with the 75 percent aggregate U.S. fabric components content requirement for CBTPA brassieres which went into effect on October 1, 2001. The interim amendments took effect on the date of publication.

This document makes three corrections to cross-reference citations within paragraph (c)(3)(ii) of § 10.228.

PART 10—[CORRECTED]

Corrections of Publication

The document published in the Federal Register as T.D. 01-74 on October 4, 2001 (66 FR 50534) is corrected as set forth below.

§ 10.228 [Corrected]

1. On page 50541, in the first column, in § 10.228, the introductory text of paragraph (c)(3)(ii) is corrected by removing the reference “paragraph (c)(3)” and adding, in its place, the reference “paragraph (c)(3)(i)”.

2. On page 50541, in the first column, in § 10.228, paragraph (c)(3)(ii)(E) is corrected by removing the reference “paragraph (b)(1)” and adding, in its place, the reference “paragraph (b)(1)(i)” and by removing the reference “paragraph (b)(2)” and adding, in its place, the reference “paragraph (b)(1)(ii)”.

Dated: October 5, 2001.
Harold M. Singer,
Chief, Regulations Branch.

[FR Doc. 01-25532 Filed 10-10-01; 8:45 am]

BILLING CODE 4820-02-P